DEPARTMENT OF THE INTERIOR

Fish and Wildlife Service

50 CFR Parts 32 and 36

[Docket No. FWS-R7-NWRS-2014-0005; FF07R06000 167 FXRS12610700000]

RIN 1018-BA31

Non-Subsistence Take of Wildlife, and Public Participation and Closure Procedures, on National Wildlife Refuges in Alaska

AGENCY: Fish and Wildlife Service, Interior.

ACTION: Proposed rule; extension of comment period and rescheduled public open house and hearing.

SUMMARY: We, the U.S. Fish and Wildlife Service (Service), are extending the comment period for our January 8, 2016, proposed rule to amend our regulations for National Wildlife Refuges (refuges) in Alaska. This action ensures that the public has an additional opportunity to comment on the proposed rule. We are also rescheduling the Kodiak open house and public hearing to March 2, 2016.

DATES:

Comment submission: Submit your comments on the proposed rule on or before April 7, 2016. Comments submitted electronically using the Federal eRulemaking Portal (see ADDRESSES, below) must be received by 11:59 p.m. Eastern Time on the closing date.

Public meetings: The rescheduled open house and public hearing in Kodiak will be held on March 2, 2016; the open house will be held from 4:00 p.m. to 5:00 p.m., and the public hearing will be held from 5:30 p.m. to 7:30 p.m.

ADDRESSES:

Document availability: You may obtain copies of the proposed rule and associated draft environmental assessment at http://www.regulations.gov at Docket No. FWS-R7-NWRS-2014-0005.

Comment submission: You may submit comments on the proposed rule by any one of the following methods:

(1) Electronically: Go to the Federal eRulemaking Portal: http://www.regulations.gov. In the Search box, enter FWS-R7-NWRS-2014-0005, which is the docket number for this rulemaking. Then click on the Search button. On the resulting page, you may submit a comment by clicking on “Comment Now!”

(2) By hard copy: Submit by U.S. mail or hand-delivery to: Public Comments Processing, Attn: FWS-R7-NWRS-2014-0005; Division of Policy, Performance, and Management Programs; U.S. Fish and Wildlife Service, MS: BPHC; 5275 Leesburg Pike, Falls Church, VA 22041-3803.

(3) At open houses or public hearings: Written comments will be accepted by Service personnel at any of the nine scheduled open houses or public hearings. Public testimony will be recorded and submitted for the record at only the public hearings via a court reporter.

We request that you send comments only by the methods described above. We will post all comments on http://www.regulations.gov. This generally means that we will post any personal information you provide us.

Public meetings: The rescheduled open house and public hearing will be held at the Kodiak National Wildlife Refuge Visitor Center, 402 Center Ave., Kodiak, Alaska; 907-487-2600. For the dates and times of the other open houses and public hearings, see our Federal Register document announcing these open houses and public hearings (81 FR 886; January 8, 2016).

FOR FURTHER INFORMATION CONTACT: Stephanie Brady, Chief of Conservation Planning and Policy, National Wildlife Refuge System, Alaska Regional Office, 1011 E. Tudor Rd., Mail Stop 211, Anchorage, AK 99503; telephone (907) 306-7448.

SUPPLEMENTARY INFORMATION: On January 8, 2016, we published a proposed rule (81 FR 887) to clarify how our existing mandates for the conservation of natural and biological diversity, biological integrity, and environmental health on refuges in Alaska relate to predator control; to prohibit several particularly effective methods and means for take of predators; and to update our public participation and closure procedures. The proposed rule would not change Federal subsistence regulations or restrict the taking of fish or wildlife for subsistence uses under Federal subsistence regulations.

We received multiple requests from several entities, including the Alaska Congressional Delegation and the Governor of Alaska, to extend the comment period on the proposed rule. In order to provide all interested parties an additional opportunity to review and comment on our proposed rule, we are extending the comment period on the proposed rule for an additional 30 days, until April 7, 2016.

If you previously submitted comments or information on the proposed rule, please do not resubmit them. We have incorporated them into the public record, and we will fully consider them in our final rulemaking. Our final determination concerning the proposed rulemaking will take into consideration all written comments and any additional information we receive.

You may submit your comments and any associated materials concerning the proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Authority

The authority for this action is 5 U.S.C. 301; 16 U.S.C. 460k et seq., 664, 668dd-668ee, 715i, and 3101 et seq.

Dated: February 19, 2016.
Michael J. Bean,
Deputy Assistant Secretary, Fish and Wildlife and Parks.

[FR Doc. 2016-04133 Filed 2-25-16; 8:45 am]

BILLING CODE 4333-15-P